DEPARTMENT OF THE INTERIOR

Bureau of Land Management

[CA-660-05-1220]

Notice of Extension of Emergency Closure of Public Lands to Recreational Shooting on Public Lands Administered by the Bureau of Land Management (BLM), Palm Springs-South Coast Field Office, CA

AGENCY: Bureau of Land Management, Interior.

ACTION: Notice.

SUMMARY: The BLM Palm Springs-South Coast Field Office is extending an emergency closure order which closes portions of public lands to recreational shooting in the South Coast Planning Area, in San Diego County, California [69 FR 65448, November 12, 2004]. The extension of the emergency closure is needed to continue providing public safety from the stray and ricocheting bullets produced by recreational shooting in this area.

DATES: This extended emergency closure will be in effect immediately and remain in effect through March 31, 2006.

ADDRESSES: Copies of the extended closure notice and a map of the closed area can be obtained at the BLM, Palm Springs-South Coast Field Office, 690 West Garnet Avenue, North Palm Springs, CA 92258, telephone (760) 251-4800/ BLM, California State Office, 2800 Cottage Way, Room W-1834, Sacramento, CA 95825, telephone (916) 978-4600. BLM will also announce the extension of the closure through local media outlets, and by posting a notice with a map of the closed area at the primary access points into the closure.

FOR FURTHER INFORMATION CONTACT: Janaye Byergo, Bureau of Land Management, phone (858) 451-1767 or by e-mail at Janaye_Byergo@ca.blm.gov.

SUPPLEMENTARY INFORMATION: This order effects public lands in San Diego County, California, thus described:

San Bernardino Meridian

T. 9 S., R. 1 E.

Section 2, NW¼NW¼, SW¼NW¼, NW¼SW¼, NE¼SW¼, SE¼SW¼

T. 9 S., R. 1 E.

Section 11, NE¼

T. 9 S., R. 1 E.

Section 12, W½NW¼

Authority: This closure notice is issued under the authority of the 43 CFR 8364.1.

Violations of this closure are punishable by a fine not to exceed $1,000 or imprisonment not to exceed 12 months.

Persons who are administratively exempt from the closure contained in this notice include: Any Federal, State or local officer or employee acting within the scope of their duties, members of any organized rescue or fire-fighting force in the performance of an official duty, and any person holding written authorization from the BLM.

Gail Acheson,
Field Manager, Palm Springs-South Coast Field Office.

[FR Doc. 05-14315 Filed 7-20-05; 8:45 am]

BILLING CODE 4310-40-P